DEPARTMENT OF COMMERCE

Patent and Trademark Office

Agency Information Collection Activities; Submission to the Office of Management and Budget (OMB) for Review and Approval; Comment Request; Trademark Submissions Regarding Correspondence and Regarding Attorney Representation

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on September 29, 2020 during a 60-day comment period. This notice allows for an additional 30 days for public comments.

Agency: Patent and Trademark Office, Department of Commerce.

Title: Trademark Submissions Regarding Correspondence and Regarding Attorney Representation.

OMB Control Number: 0651-0056.

Form Number(s):

• PTO Form 2201 (TEAS Request for Withdrawal as Attorney of Record/Update of USPTO's Database After Power of Attorney Ends)

• PTO Form 2300 (TEAS Change Address or Representation Form)

Type of Request: Extension and revision of a currently approved information collection.

Number of Respondents: 204,323 respondents per year.

Average Hour per Response: The USPTO estimates that it will take the public between 12 minutes (0.2 hours) and 1 hour to complete a response, depending upon the complexity of the situation. This includes the time to gather the necessary information, prepare the appropriate documents, and submit the completed response to the USPTO.

Estimated Total Annual Respondent Burden Hours: 50,437 hours.

Estimated Total Annual Non-Hour Cost Burden: $1,369.

Needs and Uses: The USPTO administers the Trademark Act, 15 U.S.C. 1051 et seq., which provides for the Federal registration of trademarks, service marks, collective trademarks and service marks, collective membership marks, and certification marks. Individuals and businesses that use or intend to use such marks in commerce may file an application to register their marks with the USPTO.

Such individuals and businesses may also submit various communications to the USPTO regarding their pending applications or registered trademarks, including providing additional information needed to process a pending application, filing amendments to the applications, or filing the papers necessary to keep a trademark in force. In the majority of circumstances, individuals and businesses retain attorneys to handle these matters. As such, these parties may also submit communications to the USPTO regarding the appointment of attorneys to represent applicants or registrants in the application and post-registration processes or, in the case of applicants or registrants who are not domiciled in the United States, the appointment of domestic representatives on whom may be served notices of process in proceedings affecting the mark, the revocation of an attorney's or domestic representative's appointment, and requests for permission to withdraw from representation.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0056.

Further information can be obtained by:

• Email: InformationCollection@uspto.gov. Include “0651-0056 information request” in the subject line of the message.

• Mail: Kimberly Hardy, Office of the Chief Administrative Officer, United States Patent and Trademark Office, P.O. Box 1450, Alexandria, VA 22313- 1450.

Kimberly Hardy,
Information Collections Officer, Office of the Chief Administrative Officer, United States Patent and Trademark Office.

[FR Doc. 2020-26349 Filed 11-27-20; 8:45 am]

BILLING CODE 3510-16-P